DEPARTMENT OF THE TREASURY

Agency Information Collection Activities; Submission for OMB Review; Comment Request; Prohibition on Funding of Unlawful internet Gambling

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 22, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Treasury Departmental Offices (DO)

Title: Prohibition on Funding of Unlawful internet Gambling.

OMB Control Number: 1505-0204.

Type of Review: Extension without change of a currently approved collection.

Description: The Unlawful internet Gambling Enforcement Act of 2006 (Act) (enacted as Title VIII of the Security and Accountability For Every Port Act of 2006, Public Law 109-347, 120 Stat. 1884, and codified at 31 U.S.C. 5361-5367) required the Secretary of the Treasury (Treasury) and the Board of Governors of the Federal Reserve System (Board), in consultation with the Attorney General, to prescribe regulations requiring designated payment systems and all participants therein to prevent or prohibit unlawful internet gambling transactions (referred to in the Act as “restricted transactions”) through the establishment of reasonably designed policies and procedures. 31 U.S.C. 5364(a).

To carry out the Act, the Treasury's Departmental Offices and the Board, after consulting with the Justice Department, published a final rule on November 18, 2008 in the Federal Register (73 FR 69382) requiring designated payment systems and all participants therein (referred to collectively in the final rule as “participants in designated payment systems”) to establish and implement written policies and procedures reasonably designed to prevent or prohibit restricted transactions. 31 CFR 132.5(a).

Form: None.

Affected Public: Businesses or other for-profits.

Estimated Number of Respondents: 6,038.

Frequency of Response: Annually.

Estimated Total Number of Annual Responses: 6,038.

Estimated Time per Response: 100 hours for each new institution, 8 hours to maintain existing policies and procedures.

Estimated Total Annual Burden Hours: 48,580.

Authority: 44 U.S.C. 3501 et seq.

Dated: December 18, 2018.
Spencer W. Clark,
Treasury PRA Clearance Officer.

[FR Doc. 2018-27751 Filed 12-20-18; 8:45 am]

BILLING CODE 4810-25-P